DEPARTMENT OF COMMERCE

Economic Development Administration

Proposed Information Collection; Comment Request; Application for Investment Assistance

AGENCY: Economic Development Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 8, 2013.

ADDRESSES: Direct all written comments to Jennifer Jessup, Departmental Paperwork Clearance Officer, Department of Commerce, Room 6616, 14th and Constitution Avenue NW, Washington, DC 20230 (or via the Internet at JJessup@doc.gov).

FOR FURTHER INFORMATION CONTACT: Requests for additional information or copies of the information collection instrument and instructions should be directed to Kerstin Millius, 202-482-3280, kerstin.millius@eda.gov.

SUPPLEMENTARY INFORMATION:

I. Abstract

The mission of the Economic Development Administration (EDA) is to lead the Federal economic agenda by promoting innovation and competitiveness, preparing American regions for growth and success in the worldwide economy. In order to effectively administer and monitor its economic development assistance programs, EDA collects certain information from applications for, and recipients of, EDA investment assistance.

The Application for Investment Assistance is required to apply for EDA investment assistance under its Public Works, Economic Adjustment, Technical Assistance, Research, and Planning programs. This collection of information is required to ensure that the application meets the requirements for EDA assistance set out in EDA's regulations at 13 CFR Chapter III.

II. Method of Collection

Paper and electronic submissions.

III. Data

OMB Control Number: 0610-0094.

Form Number(s): ED-900.

Type of Review: Regular submission (extension of a currently approved collection).

Affected Public: Not-for-profit institutions; Federal government; State, local, or tribal government; business or other for-profit organizations.

Estimated Number of Respondents: 1,261.

Estimated Time Per Response: 24 hours.

Estimated Total Annual Burden Hours: 29,949.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 30, 2013.
Glenna Mickelson,
Management Analyst, Office of the Chief Information Officer.

[FR Doc. 2013-02410 Filed 2-4-13; 8:45 am]

BILLING CODE 3510-WH-P